DEPARTMENT OF THE INTERIOR

National Park Service

[2253-665]

Notice of Intent To Repatriate Cultural Items: Milwaukee Public Museum, Milwaukee, WI

AGENCY: National Park Service, Interior.

ACTION: Notice.

SUMMARY: The Milwaukee Public Museum, in consultation with the appropriate Indian tribe, has determined that the cultural items meet the definition of sacred objects and repatriation to the Indian tribe stated below may occur if no additional claimants come forward. Representatives of any Indian tribe that believes itself to be culturally affiliated with the cultural items may contact the Milwaukee Public Museum.

DATES: Representatives of any Indian tribe that believes it has a cultural affiliation with the cultural items should contact the Milwaukee Public Museum at the address below by May 21, 2012.

ADDRESSES: Dawn Scher Thomae, Milwaukee Public Museum, 800 W. Wells Street, Milwaukee, WI 53233, telephone (414) 278-6157.

SUPPLEMENTARY INFORMATION: Notice is here given in accordance with the Native American Graves Protection and Repatriation Act (NAGPRA), 25 U.S.C. 3005, of the intent to repatriate cultural items under the control of the Milwaukee Public Museum that meet the definition of sacred object under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

History and Description of the Cultural Items

The five cultural items are a water drum, a fastening ring, a drumstick, a drum head and a flour sack (accessions E65165a-e/27301) collected by anthropologist James Howard. After his death, private donors raised money to purchase his collection for the Milwaukee Public Museum, and the collection came to the museum in December 1985. Documentation from the James Howard collection states that these items are “from the Turtle Mountain band of Plains-Ojibwa.” The documentation indicates the items were given to James Howard by Joseph Greatwalker, in Rolla, ND, on December 25, 1960. The items were used in the Midewiwin ceremonies of the Turtle Mountain Band of Plains-Ojibwa, and based on the workmanship of the drum, the objects date to before 1950. The last Midewiwin rites were held in 1952 or 1953.

Review of extant documentation, including the museum catalog book, catalog cards and documentation files indicate that these objects are in the possession and control of the Milwaukee Public Museum, and no restrictions of title apply to the disposition of these materials. These items are affiliated with the Turtle Mountain Band of Chippewa Indians of North Dakota. Based on documentation, the objects were acquired from a tribal member in Rolla, ND, an area long associated with this tribe. The objects meet the definition sacred object based on the documented use of these objects during the Midewiwin ceremonies.

Determinations Made by the Milwaukee Public Museum

Officials of the Milwaukee Public Museum have determined that:

• Pursuant to 25 U.S.C. 3001(3)(C), the five cultural items described in this notice are specific ceremonial objects needed by traditional Native American religious leaders for the practice of traditional Native American religions by their present-day adherents.

• Pursuant to 25 U.S.C. 3001(2), there is a relationship of shared group identity that can be reasonably traced between the sacred objects and the Turtle Mountain Band of Chippewa Indians of North Dakota.

Additional Requestors and Disposition

Representatives of any other Indian tribe that believes itself to be culturally affiliated with the sacred objects should contact Dawn Scher Thomae, Milwaukee Public Museum, 800 W. Wells Street, Milwaukee, WI 53233, telephone (414) 278-6157, before May 21, 2012. Repatriation of the sacred objects to the Turtle Mountain Band of Chippewa Indians of North Dakota may proceed after that date if no additional claimants come forward.

The Milwaukee Public Museum is responsible for notifying the Turtle Mountain Band of Chippewa Indians of North Dakota that this notice has been published.

Dated: April 12, 2012.
David Tarler,
Acting Manager, National NAGPRA Program.

[FR Doc. 2012-9437 Filed 4-18-12; 8:45 am]

BILLING CODE 4312-50-P